DEPARTMENT OF DEFENSE

Office of the Secretary

Defense Science Board; Correction

AGENCY: Department of Defense (DoD).

ACTION: Notice; correction.

SUMMARY: On Friday, May 20, 2005 (70 FR 29290) the Department of Defense announced open meetings of the Defense Science Board (DSB) Task Force on Manufacturing Technology. The September 2005 meeting dates have been revised from September 21-22, 2005 to September 22, 2005 only. The task force will meet in closed session. The meeting will be held at Strategic Analysis Inc., 3601 Wilson Boulevard, Suite 600, Arlington, VA.

FOR FURTHER INFORMATION CONTACT: LTC Scott Dolgoff, USA Defense Science Board, 3140 Defense Pentagon, Room 3C553, Washington, DC 20301-3140, via e-mail at scott.dolgoff@osd.mil, or via phone at (703) 571-0087.

Correction

In the Federal Register of May 20, 2005, in FR Doc. 05-10158, on page 29290, in the column, correct the SUMMARY and DATES caption to read:

SUMMARY: The Defense Science Board Task Force on Manufacturing Technology will meet in open session on May 24-25, 2005; July 26-27, 2005; September 22, 2005 (Closed Session); and November 2-3, 2005, at SAI, 3601 Wilson Boulevard, Arlington, VA. This Task Force will review the Department of Defense Manufacturing Technology (ManTech) Program.

DATES: September 22, 2005 (Closed Session).

Dated: August 16, 2005.
Jeannette Owings-Ballard,
OSD Federal Register Liaison Officer, Department of Defense.

[FR Doc. 05-16507 Filed 8-19-05; 8:45 am]

BILLING CODE 5001-06-P